DEPARTMENT OF LABOR

Employment and Training Administration

[TA-W-59,265]

Corinthian Inc., Sewing Department, Boonesville, MS; Notice of Termination of Investigation

Pursuant to Section 221 of the Trade Act of 1974, as amended, an investigation was initiated on April 24, 2006, in response to a petition filed on behalf of workers of Corinthian Inc., Sewing Department, Boonesville, Mississippi.

The worker group is covered by a current certification. The certification for TA-W-58,644, Corinthian, Inc., Sewing Department, Corinth, Mississippi, was amended on May 5, 2006, to include workers of Corinthian, Inc., Sewing Department, Boonesville, Mississippi. The workers were not separately identifiable between plants.

Consequently, further investigation in this petition would serve no purpose and the investigation has been terminated.

Signed at Washington, DC this 17th day of May 2006.
Linda G. Poole,
Certifying Officer, Division of Trade Adjustment Assistance.

[FR Doc. E6-8774 Filed 6-6-06; 8:45 am]

BILLING CODE 4510-30-P